DEPARTMENT OF THE INTERIOR

National Park Service

Environmental Statement; Notice of Intent

AGENCY: National Park Service, Interior.

ACTION: Notice of intent to prepare a general management plan and environmental impact statement for First Ladies National Historic Site, Ohio.

SUMMARY: The National Park Service (NPS) will prepare a general management plan (GMP) and an associated environmental impact statement (EIS) for First Ladies National Historic Site, Ohio, in accordance with section 102(2)(C) of the National Environmental Policy Act of 1969 (NEPA). This notice is being furnished as required by NEPA Regulation 40 CFR 1501.7.

To facilitate sound planning and environmental assessment, the NPS intends to gather information necessary for the preparation of the EIS, and to obtain suggestions and information from other agencies and the public on the scope of issues to be addressed in the EIS. Comments and participation in this scoping process are invited.

Participation in the planning process will be encouraged and facilitated by various means. Notification of all public involvement opportunities will be announced in the local press and in NPS mailings. To begin the public process, the NPS will conduct a scoping meeting to explain the planning effort and to solicit opinion about issues to address in the GMP/EIS.

DATES: A public scoping meeting will be held on Monday, February 25, 2002 at 2:00 p.m. at the Saxton House, 331 S. Market Avenue, Canton, Ohio. More information about the meetings is available from the Site Manager, First Ladies National Historic Site, at the address and telephone number below.

ADDRESSES: Written comments and information concerning the scope of the EIS and other matters, or requests to be added to the project mailing list should be directed to: Ms. Carol J. Spears, Site Manager, First Ladies National Historic Site, 8095 Mentor Avenue, Mentor, OH 44060. Telephone: 440-974-2993.

FOR FURTHER INFORMATION CONTACT: Site Manager, First Ladies National Historic Site, at the address and telephone number above.

SUPPLEMENTARY INFORMATION: First Ladies National Historic Site was established to preserve and interpret the role and history of First Ladies for the benefit, inspiration, and education of the people of the United States.

In accordance with NPS Park Planning policy, the GMP will ensure the National Historic Site has a clearly defined direction for resource preservation, visitor use, and facilities development. It will be developed in consultation with servicewide program managers, interested parties, and the general public. It will be based on an adequate analysis of existing and potential resource conditions and visitor experiences, environmental impacts, and costs of alternative courses of action.

The environmental review of the GMP/EIS for the historic site will be conducted in accordance with requirements of the NEPA (42 U.S.C. 4371 et seq.), NEPA regulations (40 CFR 1500-1508), other appropriate Federal regulations, and NPS procedures and policies for compliance with those regulations.

Dated: January 18, 2002.
David N. Given,
Acting Regional Director, Midwest Region.

[FR Doc. 02-7255 Filed 3-25-02; 8:45 am]

BILLING CODE 4310-70-M